DEPARTMENT OF ENERGY

Federal Energy Regulatory Commission

[Docket No. AD20-9-000]

Hybrid Resources; Supplemental Notice of Technical Conference

Take notice that the Federal Energy Regulatory Commission (Commission) staff technical conference regarding projects that are comprised of more than one resource type at the same plant location (hybrid resources) will be held on Thursday, July 23, 2020 from approximately 9:30 a.m. to 4:30 p.m. Eastern Time. The technical conference will be held electronically. An additional supplemental notice will be issued prior to the technical conference with further details regarding the agenda and organization, as well as the details for accessing the conference.

The conference will be open for the public to attend electronically. There is no fee for attendance. All individuals interested in attending the conference must register by July 15. Individuals may register for the conference here: https://www.ferc.gov/whats-new/registration/07-23-20-form.asp.

Commission conferences are accessible under section 508 of the Rehabilitation Act of 1973. For accessibility accommodations, please send an email to accessibility@ferc.gov or call toll free 1-866-208-3372 (voice) or 202-208-8659 (TTY) or send a fax to 202-208-2106 with the required accommodations.

For more information about this technical conference, please contact Kaitlin Johnson, 202-502-8542, kaitlin.johnson@ferc.gov for technical questions or Sarah McKinley, 202-502-8368, sarah.mckinley@ferc.gov for logistical issues.

Dated: June 16, 2020.
Kimberly D. Bose,
Secretary.

[FR Doc. 2020-13444 Filed 6-22-20; 8:45 am]

BILLING CODE 6717-01-P